DEPARTMENT OF THE INTERIOR

National Park Service

[NPS-WASO-NAGPRA-18011; PPWOCRADN0-PCU00RP14.R50000]

Notice of Inventory Completion for Native American Human Remains and Associated Funerary Objects in the Possession of the U.S. Department of the Interior, National Park Service, Jean Lafitte National Historical Park and Preserve, New Orleans, LA; Correction

AGENCY: National Park Service, Interior.

ACTION: Notice; correction.

SUMMARY: The U.S. Department of the Interior, National Park Service, Jean Lafitte National Historical Park and Preserve, has corrected an inventory of human remains and associated funerary objects, published in a Notice of Inventory Completion in the Federal Register on October 9, 2001. This notice corrects the number and descriptions of associated funerary objects. Lineal descendants or representatives of any Indian tribe or Native Hawaiian organization not identified in this notice that wish to request transfer of control of these human remains and associated funerary objects should submit a written request to Jean Lafitte National Historical Park and Preserve. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Jean Lafitte National Historical Park and Preserve at the address in this notice by May 28, 2015.

ADDRESSES: Lance Hatten, Superintendent, Jean Lafitte National Historical Park and Preserve, 365 Canal Street, Suite 2400, New Orleans, LA 70130-1142, telephone (504) 589-3882, email lance_hatten@nps.gov.

SUPPLEMENTARY INFORMATION: Notice is here given in accordance with the Native American Graves Protection and Repatriation Act (NAGPRA), 25 U.S.C. 3003, of the correction of an inventory of human remains and associated funerary objects under the control of Jean Lafitte National Historical Park and Preserve, New Orleans, LA. The human remains and associated funerary objects were removed from Bayou des Familles, Jefferson Parish, LA.

This notice is published as part of the National Park Service's administrative responsibilities under NAGPRA, 25 U.S.C. 3003(d)(3). The determinations in this notice are the sole responsibility of the Superintendent, Jean Lafitte National Historical Park and Preserve.

This notice corrects the number and descriptions of associated funerary objects published in a Notice of Inventory Completion in the Federal Register (66 FR 51471, October 9, 2001). Re-evaluation of materials in preparation for repatriation revealed additional funerary objects. In addition, it was discovered that one object had been inadvertently omitted from the published notice and others had not been appropriately described. Transfer of control of the items in this correction notice has not occurred.

Correction

In the Federal Register (66 FR 51471-51472, October 9, 2001), paragraph four, sentence four is corrected by substituting the following sentence:

The 96 associated funerary objects are 21 fragments of a Baytown Plain ceramic vessel, 1 untyped vessel fragment, 39 shells, 13 muskrat teeth, 11 gar scales, 2 reptile bones, 2 turtle bones, 3 bird bones, and 4 unidentified animal bones.

In the Federal Register (66 FR 51471-51472, October 9, 2001), paragraph nine, sentence two is corrected by substituting the following sentence:

The superintendent of Jean Lafitte National Historical Park and Preserve has determined that, pursuant to 43 CFR 10.2 (d)(2), the 96 objects listed above are reasonably believed to have been placed with or near individual human remains at the time of death or later as part of the death rite or ceremony.

Additional Requestors and Disposition

Lineal descendants or representatives of any Indian tribe or Native Hawaiian organization not identified in this notice that wish to request transfer of control of these human remains and associated funerary objects should submit a written request with information in support of the request to Lance Hatten, Superintendent, Jean Lafitte National Historical Park and Preserve, 365 Canal Street, Suite 2400, New Orleans, LA 70130-1142, telephone (504) 589-3882, email lance_hatten@nps.gov, by May 28, 2015. After that date, if no additional requestors have come forward, transfer of control of the human remains and associated funerary objects to the Chitimacha Tribe of Louisiana and Tunica-Biloxi Indian Tribe may proceed.

Jean Lafitte National Historical Park and Preserve is responsible for notifying the Alabama-Coushatta Tribe of Texas (previously listed as the Alabama-Coushatta Tribes of Texas); Alabama-Quassarte Tribal Town; Chitimacha Tribe of Louisiana; Coushatta Tribe of Louisiana; Jena Band of Choctaw Indians; Mississippi Band of Choctaw Indians; The Choctaw Nation of Oklahoma; and Tunica-Biloxi Indian Tribe that this notice has been published.

Dated: February 20, 2015.
Melanie O'Brien,
Acting Manager, National NAGPRA Program.

[FR Doc. 2015-09892 Filed 4-27-15; 8:45 am]

BILLING CODE 4312-50-P